DEPARTMENT OF ENERGY

Federal Energy Regulatory Commission

[Docket Nos. EL21-44-000; QF94-155-013]

LSP-Whitewater Limited Partnership; Notice of Waiver Request

Take notice that on January 29, 2021, pursuant to section 292.205(c) of the Federal Energy Regulatory Commission's (Commission) Rules of Practices and Procedures implementing the Public Utility Regulatory Policies Act of 1978, as amended, 18 CFR 292.205(c)(2017), LSP-Whitewater Limited Partnership requested a waiver of the operating and efficiency standards set forth in sections 292.205(a)(1) and 292.205(a)(2)(i)(B) of the Commission's regulations for its topping-cycle cogeneration facility located in Whitewater, Wisconsin for calendar year 2020, as more fully explained in its waiver request.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on February 19, 2021.

Dated: February 4, 2021.
Kimberly D. Bose,
Secretary.

[FR Doc. 2021-02856 Filed 2-11-21; 8:45 am]

BILLING CODE 6717-01-P